DEPARTMENT OF ENERGY

Federal Energy Regulatory Commission

Notice of Settlement Agreement and Soliciting Comments

February 17, 2004.

Take notice that the following settlement agreement has been filed with the Commission and is available for public inspection.

a. Type of Application: Settlement agreement on resolution of issues related to Endangered Species Act listed snails as part of new hydroelectric license applications.

b. Project Nos.: P-2778-005, P-2777-07, P-2061-004, P-1975-014, and P-2055-010.

c. Date filed: February 12, 2004.

d. Applicant: Idaho Power Company.

e. Name of Projects: Shoshone Falls, Upper Salmon Falls, Lower Salmon Falls, Bliss, C.J. Strike

f. Location: On the Snake River, East of Boise, Idaho in the counties of Owyhee, Elmore, Gooding, Twin Falls, Jerome.

g. Filed Pursuant to: Rule 602 of the Commission's rules of practice and procedure, 18 CFR 385.602.

h. Applicant Contact: James Tucker, Senior Counsel, Idaho Power Company, 1221 West Idaho Street, Boise, Idaho, 208-388-2112.

i. FERC Contact: John Blair, 202-502-6092, john.blair@ferc.gov.

j. Deadline for filing comments: March 15, 2004. Reply comments: March 25, 2004.

All documents (original and eight copies) should be filed with: Magalie R. Salas, Secretary, Federal Energy Regulatory Commission, 888 First Street, NE., Washington, DC 20426.

The Commission's rules of practice require all interveners filing documents with the Commission to serve a copy of that document on each person on the official service list for the project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Idaho Power Company (IPC) filed on behalf of the Company and the U.S. Fish and Wildlife Service (FWS) a settlement agreement on the resolution of all issues related to the Endangered Species Act (ESA) listed snails in connection with the relicensing of five Snake River hydroelectric Projects: Shoshone Falls, P-2778 Upper Salmon Falls, P-2777, Lower Salmon Falls, P-2061, Bliss, P-1975, C.J. Strike, P-2055. The five projects have a combined capacity of 252 MW. The specific areas of disagreement and subsequent settlement are whether and how the load following operations at the Lower Salmon Falls, Bliss and C.J. Strike projects affect the listed endangered snails. The resolution of this issue is important because significant loss of power and economic benefits would occur if the projects operated in a year-round run-of-river (ROR) mode instead of following existing operations. IPC and FWS have agreed that additional studies and analyses are desirable to assess projects effects on the snails. IPC and FWS have agreed upon an operational regime for the five projects that will permit six years of studies and analyses of various project operations on the listed snails. All Parties to the settlement have agreed that the Settlement Agreement is fair and reasonable and in the public interest. On behalf of the Parties, PGE requests that the Commission approve the Settlement Agreement and adopt it as part of the new license without material modification.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

Magalie R. Salas,
Secretary.

[FR Doc. E4-354 Filed 2-23-04; 8:45 am]

BILLING CODE 6717-01-P